ENVIRONMENTAL PROTECTION AGENCY

[ER-FRL-6675-7]

Environmental Impacts Statements; Notice of Availability

Responsible Agency: Office of Federal Activities, General Information (202) 564-7167 or http://www.epa.gov/compliance/nepa/.

Weekly receipt of Environmental Impact Statements

Filed May 22, 2006 through May 26, 2006 pursuant to 40 CFR 1506.9.

EIS No. 20060217, Final Supplement, COE, IL, Upper Des Plaines River, Proposed Flood Damage Reduction (Site 37 on Upper Des Plaines River), Prospect Heights, Cook County, IL, Wait Period Ends: June 26, 2006, Contact: Keith Ryder 312-846-5587

The above EIS should have appeared in FR on May 26, 2006 the Wait Period is Calculated from May 26, 2006.

EIS No. 20060218, Draft EIS, FHW, NY, Williamsville Toll Barrier Improvement Project, Improvements from New York Thruway, Interstate 90 between Interchange 48A and 50, Funding, Erie and Genesee Counties, NY, Comment Period Ends: July 17, 2006, Contact: Amy Jackson-Grove 518-431-4125.

EIS No. 20060219, Final EIS, COE, VA, Craney Island Eastward Expansion, Construction of a 580-acre Eastward Expansion of the Existing Dredged Material Management Area, Port of Hampton Roads, Norfolk Harbor and Channels, VA, Wait Period Ends: July 3, 2006, Contact: Craig Seltzer 757-201-7390.

EIS No. 20060220, Draft EIS, BLM, ID, Snake River Birds of Prey National Conservation Area, Resource Management Plan, Implementation, Ada, Canyon, Elmore, Owyhee Counties, ID, Comment Period Ends: August 17, 2006, Contact: Mike O'Donnell 208-384-3315.

EIS No. 20060221, Draft EIS, CGD, MA, Neptune Liquefied Natural Gas Deepwater Port License Application, Proposes to Construct, Own and Operate a Deepwater Port, northeast of Boston and south-southeast of Gloucester, MA, Comment Period Ends: July 17, 2006, Contact: M.A. Prescott 202-372-1451.

EIS No. 20060222, Draft EIS, COE, 00, Kansas Citys, Missouri and Kansas Flood Damage Reduction Study, Improvements to the Existing Line of Protection, Birmingham, Jackson, Clay Counties, MO and Wyandotte County, KS, Comment Period Ends: July 17, 2006, Contact: Christopher M. White 816-389-3158.

EIS No. 20060223, Draft EIS, FRC, 00, Carthage to Perryville Project, Construction and Operation of a Natural Gas Pipeline Facilities, CenterPoint Energy Gas Transmission, Located in various counties and parishes in eastern Texas and northern Louisiana, Comment Period Ends: July 17, 2006, Contact: Todd Sedmak 1-866-208-3372.

EIS No. 20060224, Final EIS, GSA, WA, Peace Arch Port of Entry Redevelopment Project, Improvements to Security, Safety and Functionality, Canadian Border in Blaine, Whatcom County, WA, Wait Period Ends: July 3, 2006, Contact: Michael Levine 253-931-7263.

EIS No. 20060225, Final EIS, BLM, NV, Sheep Complex, Big Springs and Owyhee Grazing Allotments Sensitive Bird Species Project, Determine Impacts of Livestock Grazing, Elko County, NV, Wait Period Ends: July 3, 2006, Contact: Bryan Fuell 775-753-0200.

EIS No. 20060226, Final EIS, FHW, CA, Lincoln Bypass Construction, South of Industrial Boulevard to North of Riosa Road, Funding and U.S. Army COE Section 404 Permit, Issuance, Placer County, CA, Wait Period Ends: July 5, 2006, Contact: Maiser Khaled 916-498-5020.

EIS No. 20060227, Draft EIS, COE, 00, White River Minimum Flood Study, Manages the Water and Land Areas at Five Reservoirs: Beaver, Table Rock, Bull Shoals, Norfork and Greers Ferry, Little Rock District, AR and MO, Comment Period Ends: July 17, 2006, Contact: Mike Biggs 501-324-5842.

EIS No. 20060228, Final Supplement, COE, MA, Boston Harbor Inner Harbor Maintenance Dredging Project, Updated Information, Boston Harbor, Mystic River and Chelsea River, MA, Wait Period Ends: July 3, 2006, Contact: Michael F. Keegan 978-318-8087.

Amended Notices

EIS No. 20060132, Draft EIS, AFS, ID, White/White Analysis Project, Proposes Vegetative Management and Watershed Improvement, Lolo Creek, Chamook Creek, White Creek, Mike White Creek, Nevada Creek, and Utah Creek, Lochsa Ranger District, Clearwater National Forest, Idaho and Clearwater County, ID, Comment Period Ends: June 15, 2006, Contact: Steve Bess 208-926-4274.

Revision to FR Notice Published April 14, 2006: Comment Period Extended from May 30, 2006 to June 15, 2006.

EIS No. 20060183, Final EIS, FAA, UT, St. George Municipal Airport Replacement, Funding, City of St. George, Washington County, UT, Wait Period Ends: July 3, 2006, Contact: T.J. Stetz 425-227-2611.

Revision to Federal Register Notice Published May 19, 2006: Wait Period Extend from June 19, 2006 to July 3, 2006.

EIS No. 20060190, Final EIS, AFS, MI, Ottawa National Forest, Proposed Land and Resource Management Plan, Forest Plan Revision, Implementation, Baraga, Gogebic, Houghton, Iron, Marquette and Ontonagan Counties, MI, Wait Period Ends: June 19, 2006, Contact: Robert Brenner 906-932-1330 x317.

Revision to Federal Register Notice Published May 19, 2006: Correction to Contact Person Telephone Number.

EIS No. 20060199, Final EIS, AFS, MI, Huron-Manistee National Forests, Land and Resource Management Plan, Implementation, Several Counties, MI, Wait Period Ends: June 26, 2006, Contact: Jeffery G. Pullen 231-775-2421 Revision to FR Notice Published May 26, 2006: Correction to Contact Person Telephone Number.

EIS No. 20060200, Draft EIS, COE, 00, PROGRAMMATIC—Ohio River Mainstem System Study, System Investment Plan (SIP) for Maintaining Safe, Environmentally Sustainable and Reliable Navigation on the Ohio River, IL, IN, OH, KY, PA and WV, Comment Period Ends: July 25, 2006, Contact: Veronica Rife 502-315-6785.

Revision to Federal Register Notice Published May 26, 2006: Comment Period Extended from July 18, 2006 to July 25, 2006.

Dated: May 30, 2006.
Robert W. Hargrove,
Director, NEPA Compliance Division, Office of Federal Activities.

[FR Doc. E6-8592 Filed 6-1-06; 8:45 am]

BILLING CODE 6560-50-P